DEPARTMENT OF HOMELAND SECURITY

Federal Emergency Management Agency

[Docket ID FEMA-2016-0002; Internal Agency Docket No. FEMA-B-1608]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: March 10, 2016.
Roy E. Wright,
Deputy Associate Administrator for Insurance and Mitigation, Department of Homeland Security, Federal Emergency Management Agency.

State and county | Location and case No. | Chief executive officer of community | Community map repository | Online location of letter of map revision | Effective date of modification | Community No.
Arizona:
Maricopa | City of Peoria (15-09-2060P) | The Honorable Cathy Carlat Mayor, City of Peoria, 8401 West Monroe Street, Peoria, AZ 85345 | City Hall 8401, West Monroe Street, Peoria, AZ 85345 | http://www.msc.fema.gov/lomc | Apr. 29, 2016 | 040050
Pima | Unincorporated areas of Pima County (15-09-1650P) | The Honorable Sharon Bronson Chair, Board of Supervisors, Pima County, 130 West Congress Street, 10th Floor, Tucson, AZ 85701 | Pima County Flood Control District, 210 North Stone Avenue, 9th Floor, Tucson, AZ 85701 | http://www.msc.fema.gov/lomc | Apr. 15, 2016 | 040073
Pima | City of Tucson (15-09-2298P) | The Honorable Jonathan Rothschild, Mayor, City of Tucson, City Hall, 255 West Alameda Street, 10th Floor, Tucson, AZ 85701 | Pima County Flood Control District, 210 North Stone Avenue, 9th Floor, Tucson, AZ 85701 | http://www.msc.fema.gov/lomc | Jun. 13, 2016 | 040076
Yavapai | Unincorporated areas of Yavapai County (15-09-1727P) | The Honorable Craig Brown, Chairman, Board of Supervisors, Yavapai County, 1015 Fair Street, Prescott, AZ 86305 | Yavapai County Flood Control District Office, 1120 Commerce Drive, Prescott, AZ 86305 | http://www.msc.fema.gov/lomc. | May 27, 2016 | 040093
California:
Riverside | City of Corona (15-09-1832P) | The Honorable Eugene Montanez, Mayor, City of Corona, 400 South Vicentia Avenue, Corona, CA 92882 | City Hall, 400 South Vicentia Avenue, Corona, CA 92882 | http://www.msc.fema.gov/lomc | Mar. 31, 2016 | 060250
Riverside | Unincorporated areas of Riverside County (15-09-1832P) | The Honorable Marion Ashley, Chairman, Board of Supervisors, Riverside County, 4080 Lemon Street, 5th Floor, Riverside, CA 92501 | Riverside County Flood Control and Water Conservation District, 1995 Market Street, Riverside, CA 92501 | http://www.msc.fema.gov/lomc | Mar. 31, 2016 | 060245
Riverside | City of Moreno Valley (15-09-1728P) | The Honorable Tom Owings, Mayor, City of Moreno Valley, 14177 Frederick Street, Moreno Valley, CA 92552 | City Hall, 14177 Frederick Street, Moreno Valley, CA 92552 | http://www.msc.fema.gov/lomc | May 26, 2016 | 065074
Riverside | City of Perris (15-09-1728P) | The Honorable Daryl R. Busch, Mayor, City of Perris, 101 North D Street, Perris, CA 92570 | City Hall, 101 North D Street, Perris, CA 92570 | http://www.msc.fema.gov/lomc | May 26, 2016 | 060258
Sacramento | Unincorporated areas of Sacramento County (15-09-2246P) | The Honorable Phil Serna, Chairman, Board of Supervisors, Sacramento County, 700 H Street, Suite 2450, Sacramento, CA 95814 | Municipal Services Agency, Department of Water Resources, 827 7th Street, Suite 301, Sacramento, CA 95814 | http://www.msc.fema.gov/lomc | Mar. 21, 2016 | 060262
San Diego | City of El Cajon (15-09-1699P) | The Honorable Bill Wells, Mayor, City of El Cajon, 200 Civic Center Way, El Cajon, CA 92020 | City Hall, 200 Civic Center Way, El Cajon, CA 92020 | http://www.msc.fema.gov/lomc | Apr. 8, 2016 | 060289
Nevada:
Clark | Unincorporated areas of Clark County (15-09-2566P) | The Honorable Steve Sisolak, Chairman, Board of Supervisors, Clark County, 500 South Grand Central Parkway, 6th Floor, Las Vegas, NV 89106 | Office of the Director of Public Works, 500 South Grand Central Parkway, Las Vegas, NV 89155 | http://www.msc.fema.gov/lomc | May 19, 2016 | 320003
Clark | Unincorporated areas of Clark County (16-09-0035P) | The Honorable Steve Sisolak, Chairman, Board of Supervisors, Clark County, 500 South Grand Central Parkway, 6th Floor, Las Vegas, NV 89106 | Office of the Director of Public Works, 500 South Grand Central Parkway, Las Vegas, NV 89155 | http://www.msc.fema.gov/lomc | May 10, 2016 | 320003
Douglas | Unincorporated areas of Douglas County (15-09-0074P) | The Honorable Doug N. Johnson, Chairman, Board of Supervisors Douglas County, P.O. Box 218, Minden, NV 89423 | Douglas County Public Works Department, 1615 8th Street, Minden, NV 89423 | http://www.msc.fema.gov/lomc | May 26, 2016 | 320008
Washoe | City of Reno (16-09-0377X) | The Honorable Hillary Schieve, Mayor, City of Reno, 1 East 1st Street, Reno, NV 89501 | City Hall Annex 450 Sinclair Street Reno, NV 89501 | http://www.msc.fema.gov/lomc | May 25, 2016 | 320020

[FR Doc. 2016-07081 Filed 3-28-16; 8:45 am]

BILLING CODE 9110-12-P